DEPARTMENT OF HEALTH AND HUMAN SERVICES

Substance Abuse and Mental Health Services Administration

Agency Information Collection Activities: Proposed Collection; Comment Request

In compliance with section 3506(c)(2)(A) of the Paperwork Reduction Act of 1995 concerning opportunity for public comment on proposed collections of information, the Substance Abuse and Mental Health Services Administration (SAMHSA) will publish periodic summaries of proposed projects. To request more information on the proposed projects or to obtain a copy of the information collection plans, email the SAMHSA Reports Clearance Officer at samhsapra@samhsa.hhs.gov. Comments are invited on: (a) whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: SAMHSA Unified Client-Level Performance Reporting Tool (SUPRT)—(OMB No. 0930-NEW)

The Substance Abuse and Mental Health Services Administration (SAMHSA) is the agency within the U.S. Department of Health and Human Services that leads public health efforts to advance the behavioral health of the nation. SAMHSA is seeking approval for the new SAMHSA Unified Client-level Performance Reporting Tool (SUPRT) to modify the existing Center for Substance Abuse Treatment (CSAT) and Center for Mental Health Services (CMHS) Client-Level Performance Instruments into a streamlined, multi-component SAMHSA Client-Level Performance Tool. Currently, over 7,500 grantees across a range of prevention, harm reduction, treatment, and recovery support discretionary grant programs report program performance data into SAMHSA's Performance Accountability and Reporting System (SPARS) that serves as a central data repository. SPARS also functions as a performance management system that captures information on the substance use and mental health services delivered via the range of SAMHSA's discretionary grants. SAMHSA has historically required grantees to collect much of the client-level information in SPARS using a prescribed series of questions in long complex instruments. This is not the totality of data tools SAMHSA uses, however, to collect performance data on its discretionary grant programs. SAMHSA uses data collected, depending on the grant program, at the client-level, but also through aggregate program performance tools, required narrative performance progress reports, or a combination of these. This notice informs the public of SAMHSA's intent to develop and implement a new streamlined client-level performance tool that will allow SAMHSA to continue to meet Government Performance and Results Modernization Act (GPRAMA) of 2010 reporting requirements, reduce the scope and associated burden of questions requiring responses directly from clients, and limit the amount of client-level detail reported by grantees.

The proposed new client-level performance tool will involve streamlining questions from the currently used client-level performance reporting tools, as well as incorporating select new measures/questions into a multi-component client-level tool. With this change, SAMHSA will provide guidance specifying which items SAMHSA expects grantees to ask directly of clients and those for which grantees may use alternate data sources for gathering and reporting client-level data. This new, streamlined client-level performance tool will reduce client and grantee reporting burden and enhance consistency of the collected performance data. This tool also reflects diverse stakeholder feedback SAMHSA obtained through multiple listening sessions conducted with key stakeholders and will incorporate findings of cognitive testing to improve clarity of the measures. This performance tool will align with, and strengthen, SAMHSA's complementary evaluation activities of its discretionary grant programs providing client services.

SAMHSA will use the data collected through the new streamlined client-level performance tool for both annual reporting required by GPRAMA, grantee monitoring, and continuous improvement of its discretionary grant programs. The information collected through this process will allow SAMHSA to (1) monitor and report on implementation and overall performance of the associated grant programs; (2) advance SAMHSA's proposed performance goals; and (3) assess the accountability and performance of its discretionary grant programs, focused on efforts that promote mental health, prevent substance use, and provide treatments and supports to foster recovery.

Through the proposed new, streamlined single client-level performance tool, SAMHSA seeks to (1) improve the utility of client-level performance tools while decreasing burden; (2) standardize and utilize tested questions across programs wherever possible; and, (3) elicit programmatic information that helps inform the impact of discretionary grant programs on the achievement of SAMHSA's Strategic Priority Area goals and objectives (https://www.samhsa.gov/about-us/strategic-plan). Furthermore, this effort is designed to align performance reporting requirements with the measurement activities of other federal agencies (e.g., the Centers for Medicare & Medicaid Services; the Centers for Disease Control and Prevention; the U.S. Census Bureau; the Office of Management and Budget; etc.) to the extent possible. To meet these goals, data from the new client-level performance tool for SAMHSA's discretionary grants can be used to delineate who is served, how they are served, what services they receive, and how the program impacts the progress of clients in terms of mental health and substance use issues. The tool reflects SAMHSA's goals to elicit pertinent program data that can be used to inform current and future programs and practices and respond to stakeholders, congressional, and other agency inquiries.

The proposed structure of the new tool will be one that is streamlined and multi-component with client-level information collected and reported at varying frequencies. The first component will be composed of standardized questions about demographic information (asked directly of clients at baseline only) and social determinants of health (asked directly of clients at baseline and annually as instructed by SAMHSA); the second component will contain standardized recovery, quality of life, and client goal measures as impacted by services received (also asked of clients at baseline and reassessment during the first year of a grant, then annually as instructed by SAMHSA); and the third component will consist of a streamlined set of questions describing clients' behavioral health history, screening and diagnosis items, and services provided to clients (as reported at the client-level by the grantee using alternate data sources that already may be in use for other purposes, for example an electronic health or medical record). Question(s) about services provided to the client will only be required at reassessment and annually for some programs as instructed by SAMHSA.

Currently, the tool and final burden table are still under development and will be available as part of the 30-Day FRN. However, SAMHSA expects that use of the multi-component tool will result in a significant decrease in burden for client and grantee annualized reporting, not only because of the streamlining of questions, but also because not all items will be required at every data collection time point. For example, SAMHSA anticipates that the services provided item will not be required to report at baseline, only reassessment and, for some programs, annually. SAMHSA is also finalizing a revised policy on when reassessments are expected to occur, recognizing that a one-size fits all approach may not be appropriate for all client-focused grant programs. SAMHSA is conducting testing to establish a better estimate of the time it will take to complete the information collection given the varying degree of direct client involvement across the new tool's components and grantee use of alternate data sources for a portion of the tool. At this point, SAMHSA estimates that approximately 1500 client-focused grantees annually will use the tool and with a burden hour estimate per assessment that ranges from 0.13 to 0.27 for each of the three tool components. SAMHSA's goal is to develop a new performance tool that is streamlined and will significantly reduce burden compared to the current performance tools.

Send comments to the SAMHSA Reports Clearance Officer, 5600 Fishers Lane, Room 15E45, Rockville, Maryland 20857, OR email a copy to samhsapra@samhsa.hhs.gov. Written comments should be received by October 15, 2024.

Alicia Broadus,
Public Health Advisor.

[FR Doc. 2024-18316 Filed 8-14-24; 8:45 am]

BILLING CODE 4162-20-P